DEPARTMENT OF AGRICULTURE

Food and Nutrition Service

Special Supplemental Nutrition Program for Women, Infants, and Children (WIC): 2020/2021 Income Eligibility Guidelines; Correction

AGENCY: Food and Nutrition Service (FNS), USDA.

ACTION: Notice; correction.

SUMMARY: The Department of Agriculture Food and Nutrition Service published a document in the Federal Register of May 26, 2020 concerning income eligibility guidelines for the Special Supplemental Nutrition Program for Women, Infants, and Children (WIC). The document contains a mislabeled column in one of the tables.

FOR FURTHER INFORMATION CONTACT: Sara Olson, Chief, Policy Branch, Supplemental Food Programs Division, FNS, USDA, 1320 Braddock Place, Alexandria, Virginia 22314, (703) 605-4013.

Correction

In the Federal Register of May 26, 2020, in FR Doc. 2020-11251, on page 31435, in the table titled “INCOME ELIGIBILITY GUIDELINES (effective from July 1, 2020 to June 30, 2021),” in the first column “Household Size,” of the middle row “Alaska,” correct the numbering in the column to read: 1, 2, 3, 4, 5, 6, 7, 8, each add'l fam mem add.

Pamilyn Miller,
Administrator, Food and Nutrition Service.

[FR Doc. 2020-13087 Filed 6-17-20; 8:45 am]

BILLING CODE 3410-30-P